DEPARTMENT OF TRANSPORTATION

Federal Railroad Administration

Notice of Informational Filing

For informational purposes only, the Federal Railroad Administration (FRA) is providing notice that it has received an informational filing from the BNSF Railway Company (BNSF) to conduct testing of Configuration IV of BNSF's Electronic Train Management System (ETMS) submitted pursuant to Title 49 Code of Federal Regulations (CFR) 236.913. The informational filing is described below, including the submitting party and the requisite docket number where the informational filing and any related information may be found. The document is available for public inspection; however, FRA is not accepting public comment on the document.

BNSF Railway Company

[Docket Number FRA-2006-23687]

BNSF has submitted an informational filing to FRA to begin operational testing of ETMS Version IV on BNSF's Stampede Subdivision. This testing will allow BNSF to obtain the necessary assessments required to amend BNSF's currently approved Product Safety Plan (PSP) for ETMS Version I for a future submittal to FRA. In addition, this testing will allow BNSF to substantiate the ETMS technology on mountain grade territory with freight operations. The informational filing has been placed under Docket Number FRA-2006-23687 and is available for public inspection.

Interested parties are invited to review the informational filing and associated documents at the DOT Docket Management facility during regular business hours (9 a.m.-5 p.m.) at 1200 New Jersey Avenue, SE., Room W12-140, Washington, DC 20590. All documents in the public docket are also available for inspection and copying on the Internet at http://www.regulations.gov.

Anyone is able to search the electronic form of any written communications received into any of our dockets by name of the individual submitting the document (or signing the document, if submitted on behalf of an association, business, labor union, etc.). You may review the DOT's complete Privacy Act Statement in the Federal Register published on April 11, 2000 (Volume 65, Number 70; Pages 19477-78).

Issued in Washington, DC on June 17, 2009.
Grady C. Cothen, Jr.,
Deputy Associate Administrator for Safety Standards and Program Development.

[FR Doc. E9-14825 Filed 6-23-09; 8:45 am]

BILLING CODE 4910-06-P